DEPARTMENT OF AGRICULTURE

Forest Service

Crescent Ranger District; Oregon; Withdrawal of Notice for Preparation of an Environmental Impact Statement for the Marsh Project

AGENCY: Forest Service, USDA.

ACTION: Notice of withdrawal.

SUMMARY: The Crescent Ranger District is withdrawing their intent to prepare an Environmental Impact Statement (EIS) for the Marsh project. The original Notice of Intent (NOI) was published in the Federal Register on April 26, 2013 (Vol. 78, No.81, p 24717-24718). The Forest Service has determined that an EIS is not required for this project as currently proposed and therefore, it was decided to document the project in an environmental assessment.

FOR FURTHER INFORMATION CONTACT: Tim Foley, Team Leader, Crescent Ranger District, P.O. Box 208, Crescent, Oregon, 97733, phone (541) 433-3200.

Dated: July 31, 2013.
Holly Jewkes,
Crescent District Ranger.

[FR Doc. 2013-25584 Filed 10-28-13; 8:45 am]

BILLING CODE 3410-11-P